DEPARTMENT OF TRANSPORTATION

Federal Aviation Administration

14 CFR Part 39

[Docket No. FAA-2011-0158; Directorate Identifier 2010-NM-118-AD]

RIN 2120-AA64

Airworthiness Directives; The Boeing Company Airplanes

AGENCY: Federal Aviation Administration (FAA), Department of Transportation (DOT).

ACTION: Proposed rule; withdrawal.

SUMMARY: The FAA withdraws a notice of proposed rulemaking (NPRM) that proposed to supersede an existing airworthiness directive (AD) that applies to certain The Boeing Company Model 767-200, -300, -300F, and -400ER series airplanes. The proposed AD would have continued to require an inspection to determine if certain motor operated valve actuators for the fuel tanks are installed, and related investigative and corrective actions if necessary. That proposed AD would have added airplanes and, for certain airplanes, required additional inspections to determine if certain motor operated valve actuators for the fuel tanks are installed, and related investigative and corrective actions if necessary. Since the proposed AD was issued, we have received new data indicating that the existing AD addresses that safety concern, but also introduces a different unsafe condition. Accordingly, the proposed AD is withdrawn.

ADDRESSES: You may examine the AD docket on the Internet at http://www.regulations.gov; or in person at the Docket Management Facility between 9 a.m. and 5 p.m., Monday through Friday, except Federal holidays. The AD docket contains this proposed rule, the regulatory evaluation, any comments received, and other information. The address for the Docket Office (phone: 800-647-5527) is the Document Management Facility, U.S. Department of Transportation, Docket Operations, M-30, West Building Ground Floor, Room W12-140, 1200 New Jersey Avenue SE., Washington, DC 20590.

FOR FURTHER INFORMATION CONTACT: Rebel Nichols, Aerospace Engineer, Propulsion Branch, ANM-140S, FAA, Seattle Aircraft Certification Office, 1601 Lind Avenue SW., Renton, WA 98057-3356; phone: (425) 917-6509; fax: (425) 917-6590; email: Rebel.Nichols@faa.gov.

SUPPLEMENTARY INFORMATION:

Discussion

We issued a notice of proposed rulemaking (NPRM) to amend 14 CFR part 39 of with a notice of proposed rulemaking (NPRM) to supersede AD 2009-22-13, Amendment 39-16066 (74 FR 55755, October 29, 2009). That AD applies to the specified products. The NPRM published in the Federal Register on March 14, 2011 (76 FR 13534). That NPRM would have continued to require an inspection to determine if certain motor operated valve actuators for the fuel tanks are installed, and related investigative and corrective actions if necessary. That proposed AD would have added airplanes and, for certain airplanes, required additional inspections to determine if certain motor operated valve actuators for the fuel tanks are installed, and related investigative and corrective actions if necessary. That NPRM resulted from fuel system reviews conducted by the manufacturer. The proposed actions were intended to prevent an ignition source inside the fuel tanks, which, in combination with flammable fuel vapors, could result in a fuel tank explosion and consequent loss of the airplane.

Actions Since NPRM (76 FR 13534, March 14, 2011) Was Issued

Since we issued the NPRM (76 FR 13534, March 14, 2011), we discovered that the corrective action mandated by AD 2009-22-13, Amendment 39-16066 (74 FR 55755, October 29, 2009), and subsequently the corrective actions proposed by the NPRM, address that safety concern, but also introduce a different unsafe condition. The manufacturer is developing a more complete solution to address both unsafe conditions.

Accordingly, we have determined that the NPRM (76 FR 13534, March 14, 2011), must be withdrawn. In addition, we are considering further rulemaking to rescind AD 2009-22-13, Amendment 39-16066 (74 FR 55755, October 29, 2009), and will consider requiring a new solution once it is developed, approved, and available for accomplishment.

FAA's Conclusions

Upon further consideration, we have determined that the existing AD does not properly address the safety concern. Accordingly, the NPRM (76 FR 13534, March 14, 2011) is withdrawn.

Withdrawal of the NPRM (76 FR 13534, March 14, 2011) does not preclude the FAA from issuing another related action or commit the FAA to any course of action in the future.

Regulatory Impact

Since this action only withdraws an NPRM (76 FR 13534, March 14, 2011), it is neither a proposed nor a final rule and therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, we withdraw the NPRM, Docket No. FAA-2011-0158, Directorate Identifier 2010-NM-118-AD, which was published in the Federal Register on March 14, 2011 (76 FR 13534).

Issued in Renton, Washington, on July 31, 2012.
Michael Kaszycki,
Acting Manager, Transport Airplane Directorate, Aircraft Certification Service.

[FR Doc. 2012-19244 Filed 8-7-12; 8:45 am]

BILLING CODE 4910-13-P